DEPARTMENT OF ENERGY

Federal Energy Regulatory Commission

Reliant Energy Desert Basin, LLC, et al.; Electric Rate and Corporate Filings

August 27, 2003.

The following filings have been made with the Commission. The filings are listed in ascending order within each docket classification.

1. Reliant Energy Desert Basin, LLC

[Docket No. EC03-129-000]

Take notice that on August 22, 2003, Reliant Energy Desert Basin, LLC (Reliant Desert Basin) filed an Application for Authorization Under section 203 of the Federal Power Act and Request for Expedited Action and Shortened Public Notice Period. Reliant Desert Basin requests that the Commission grant all necessary authorizations to transfer certain jurisdictional facilities to Salt River Project Agricultural Improvement and Power District.

Comment Date: September 12, 2003.

2. Black Hills Corporation

[Docket No. EC03-130-000]

Take notice that on August 22, 2003, Black Hills Corporation filed an application with FERC requesting authorization under section 203 of the Federal Power Act to implement a plan of internal corporate restructuring.

Comment Date: September 12, 2003.

3. Oklahoma Gas and Electric Company and NRG McClain LLC

[Docket No. EC03-131-000]

Take notice that on August 26, 2003, Oklahoma Gas and Electric Company (OG&E) and NRG McClain LLC (NRG McClain) filed with the Federal Energy Regulatory Commission (Commission) an application pursuant to section 203 of the Federal Power Act for authorization for NRG McClain to sell, and OG&E to acquire, NRG McClain's 77 percent interest in the 520 megawatt McClain Energy Generating Facility and associated transmission equipment located near Oklahoma City, Oklahoma.

Comment Date: September 16, 2003.

4. Texas Genco, LP

[Docket No. EG03-96-000]

Take notice that on August 25, 2003, Texas Genco, LP (Texas Genco) tendered for filing an application for a determination of exempt wholesale generator status, pursuant to section 32(a)(1) of the Public Utility Holding Company Act of 1935, as amended, (PUHCA), 15 U.S.C. 79z-5a(a)(1) (2000), and subchapter T, part 365 of the regulations of the Federal Energy Regulatory Commission (Commission), 18 CFR part 365. Texas Genco states that it is a limited partnership organized and existing under the laws of the State of Texas that owns and operates twelve electric generating facilities, with an aggregate maximum capacity of approximately 14,000 megawatts, located in Texas. Texas Genco further states that it will be engaged directly, or indirectly through one or more affiliates as defined in section 2(a)(11)(B) of PUHCA, and exclusively in the business of owning eligible facilities, and selling electric energy at wholesale.

Comment Date: September 17, 2003.

5. Midwest Independent Transmission System Operator, Inc.

[Docket No. EL02-111-005]

Take notice that on August 22, 2003, the Midwest Independent Transmission System Operator, Inc. (Midwest ISO) submitted proposed revisions Schedules 7, 8 and 14 of the Midwest ISO Open Access Transmission Tariff (Tariff), FERC Electric Tariff, Second Revised Volume No. 1, in compliance with the Commission's July 23, 2003 Order on Initial Decision, 104 FERC 61,105 (2003), in which the Commission directed the Midwest ISO and PJM Interconnection, Inc. (PJM) to eliminate the Regional Through and Out Rates under their Tariffs for transactions that sink in the Midwest ISO/PJM footprint, effective November 1, 2003.

The Midwest ISO has also requested waiver of the service requirements set forth in 18 CFR 385.2010. The Midwest ISO states that it has electronically served a copy of this filing, with attachments, upon all Midwest ISO Members, Member representatives of Transmission Owners and Non-Transmission Owners, the Midwest ISO Advisory Committee participants, as well as all state commissions within the region. Midwest ISO also states that in addition, the filing has been electronically posted on the Midwest ISO's Web site at http://www.midwestiso.org under the heading “Filings to FERC” for other interested parties in this matter and that it will provide hard copies to any interested parties upon request.

Comment Date: September 29, 2003.

6. California Power Exchange Corporation

[Docket No. EL03-223-000]

Take notice that on August 21, 2003, the California Power Exchange Corporation (CalPX) filed with the Federal Energy Regulatory Commission, a Petition for Declaratory Order. The Petition requests Commission approval for CalPX to enter into a settlement with American House Assurance Company on a performance bond covering defaults in its Core Market. CalPX states that the proposed settlement provides for the payment of $7.5 million into CalPX's Settlement Clearing Account.

Comment Date: September 22, 2003.

7. California Independent System Operator Corporation

[Docket No. ER03-407-004]

Take notice that on August 25, 2003, the California Independent System Operator Corporation (ISO), submitted a filing in compliance with the Commission's July 25, 2003 Order in Docket Nos. ER03-407-002 and 003, 104 FERC 61,128.

The ISO states that this filing has been served upon all parties in the above referenced proceeding, and has been posted on the ISO Home Page.

Comment Date: September 15, 2003.

8. Devon Power Company

[Docket No.ER03-563-017]

Take notice that on August 25, 2003, ISO New England Inc. (ISO) submitted a Compliance Filing as directed by the Commission in its July 24, 2003 Order on Rehearing and Compliance, 104 FERC 61,123. The ISO states that copies of the filing have been served on all parties in this proceeding.

Comment Date: September 15, 2003.

9. ISO New England Inc.

[Docket No. ER03-854-002]

Take notice that on August 25, 2003, ISO New England Inc. (ISO) submitted a Compliance Filing as directed by the Commission in its July 25, 2003 Order Accepting Scarcity Pricing Proposal, 104 FERC 61,130. The ISO states that copies of the filing have been served on all parties on the Service List for Docket No. ER03-854.

Comment Date: September 15, 2003.

10. Direct Commodities Trading (DCT) Inc.

[Docket No. ER03-1162-001]

Take notice that on August 25, 2003, Direct Commodities Trading (DCT) Inc. (DCT) filed a supplement to its application filed August 5, 2003 for market-based rates as a power marketer. DCT states that the supplemental information pertains to formatting and presentation of Rate Schedule FERC No. 1.

Comment Date: September 8, 2003.

11. California Independent System Operator Corporation

[Docket No. ER03-1222-001]

Take notice that on August 20, 2003, the California Independent System Operator Corporation (ISO), tendered for filing an errata concerning Amendment No. 57 to the ISO Tariff, which the ISO filed for acceptance by the Commission on August 18, 2003, in Docket No. ER03-1222-000.

The ISO states that this filing has been served on the Public Utilities Commission of California, the California Energy Commission, the California Electricity Oversight Board, the Participating TOs, Trans-Elect, and all parties with effective Scheduling Coordinator Agreements under the ISO Tariff.

Comment Date: September 10, 2003.

12. Wisconsin Electric Power Company

[Docket No. ER03-1240-000]

Take notice that on August 22, 2003, Wisconsin Electric Power Company (Wisconsin Electric) tendered for filing a revised Power Service Agreement (PSA) between Wisconsin Electric and the City of Crystal Falls, Michigan (City) modifying the price for energy Wisconsin Electric charges the City. Wisconsin Electric states that the revision to the energy price is being made pursuant to section 2.05 of the PSA. Wisconsin Electric and the City request that the Commission approve the revised PSA to become effective on August 25, 2003.

Comment Date: September 12, 2003.

13. Tampa Electric Company

[Docket No. ER03-1242-000]

Take notice that on August 22, 2003, Tampa Electric Company (Tampa Electric) tendered for filing a Notice of Cancellation of a transaction-specific service agreement with the Reedy Creek Improvement District under Tampa Electric's market-based sales tariff. Tampa Electric proposes that the cancellation be made effective on August 22, 2003.

Tampa Electric states that copies of the filing have been served on RCID and the Florida Public Service Commission.

Comment Date: September 12, 2003.

14. Southern California Edison Company

[Docket No. ER03-1243-000]

Take notice that on August 25, 2003, Southern California Edison Company (SCE) tendered for filing an Amended and Restated Interconnection Facilities Agreement (A&RIFA) between High Desert Power Project, LLC (HDPP) and SCE. SCE states that the A&RIFA specifies the final terms and conditions pursuant to which SCE will interconnect 850 MW of generation to the California Independent System Operator Controlled Grid pursuant to SCE's Transmission Owner Tariff, FERC Electric Tariff, Second Revised Original Volume No. 6. SCE also states that the A&RIFA will replace, in its entirety, the Interconnection Facilities Agreement between SCE and High Desert Power Trust accepted as Service Agreement No. 11 under SCE's Transmission Owner Tariff in Docket No. ER02-1073-000. SCE states that because of disputes over certain issues between SCE and HDPP, HDPP has requested that SCE file the A&RIFA unexecuted. SCE requests that the A&RIFA become effective one day after filing.

SCE states that copies of this filing were served upon the Public Utilities Commission of the State of California and HDPP.

Comment Date: September 15, 2003.

15. Virginia Electric and Power Company

[Docket No. ER03-1244-000]

Take notice that on August 25, 2003, Virginia Electric and Power Company, doing business as Dominion Virginia Power (the Company), tendered for filing copies of a letter agreement between Virginia Electric and Power Company, doing business as Dominion Virginia Power (the Company), and Virginia Municipal Electric Association No. 1 (VMEA). The Company states that the letter agreement, dated June 16, 2003, adds a new point of delivery to the Agreement for the Purchase of Electricity for Resale between VMEA and the Company, First Revised Rate Schedule FERC No. 109.

The Company requests waiver of the Commission's notice of filing requirements to allow the letter agreement to become effective on October 15, 2003, the earliest date upon which all of the facilities necessary to provide service under the letter agreement will be completed. The Company states that copies of the filing were served upon VMEA, the Virginia State Corporation Commission and the North Carolina Utilities Commission.

Comment Date: September 15, 2003.

16. California Independent System Operator Corporation

[Docket No. ER03-1245-000]

Take notice that on August 25, 2003, the California Independent System Operator Corporation (ISO), tendered for filing Amendment No. 1 to the Participating Generator Agreement between the ISO and Energia Azteca X, S. de R.L. de C.V (EAX) for acceptance by the Commission.

The ISO states that this filing has been served on EAX and the California Public Utilities Commission. The ISO is requesting waiver of the 60-day notice requirement to allow Amendment No. 1 to the Participating Generator Agreement to be made effective July 15, 2003.

Comment Date: September 15, 2003.

17. Southwestern Electric Power Company

[Docket No. ER03-1246-000]

Take notice that on August 25, 2003, Southwestern Electric Power Company (SWEPCO) filed a Restated and Amended Power Supply Agreement (Restated Agreement) between SWEPCO and Tex-La Electric Cooperative of Texas, Inc. (Tex-La). SWEPCO states that the Restated Agreement supersedes in its entirety the Power Supply Agreement, dated July 31, 1997, as amended, between SWEPCO and Tex-La.

SWEPCO seeks an effective date of June 15, 2000 and, accordingly, seeks waiver of the Commission's notice requirements. SWEPCO states that copies of the filing have been served on Tex-La and on the Public Utility Commission of Texas.

Comment Date: September 15, 2003.

18. Florida Power Corporation Progress Energy Florida, Inc.

[Docket No. SC03-1-000]

Take notice that on August 13, 2003, Florida Power Corporation (FPC) tendered for filing with the Federal Energy Regulatory Commission (Commission) a Notice of Withdrawal of its April 2, 2003 application to recover stranded costs from the City of Casselberry, Florida .

Comment Date: September 10, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-22625 Filed 9-4-03; 8:45 am]

BILLING CODE 6717-01-P